DEPARTMENT OF HOMELAND SECURITY

Coast Guard

33 CFR Part 117

[Docket No. USCG-2014-0281]

RIN 1625-AA09

Drawbridge Operation Regulations; Oceanport Creek, Oceanport, NJ

AGENCY: Coast Guard, DHS.

ACTION: Notice of proposed rulemaking; withdrawal.

SUMMARY: The Coast Guard is withdrawing its notice of proposed rulemaking concerning the New Jersey Transit Rail Operations (NJTRO) Bridge across Oceanport Creek at mile 8.4, at Oceanport, New Jersey. The bridge owner submitted a request to require a four-hour advance notice for bridge openings year-round based upon infrequent requests to open the draw over the last three years.

The Coast Guard is withdrawing this notice of proposed rulemaking because the data supporting the bridge owner's request was based upon the past three years of bridge openings; however, we received comments in response to our notice of proposed rulemaking that advised us that the Fort Monmouth Marina and Restaurant, located upstream from the bridge, was closed during the three year time period when the bridge opening data was collected. Subsequently, marina and restaurant has re-opened and it is now anticipated that the number of bridge opening requests will significantly increase.

As a result of the above information we do not believe that a four-hour advance notice for bridge openings is justified at this time and that a four-hour advance notice for bridge openings would not meet the reasonable needs of navigation.

DATES: The notice of proposed rulemaking is withdrawn on October 9, 2014.

ADDRESSES: The docket for this deviation, [USCG-2014-0281] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions about this notice, call or email Mr. Joe Arca, Project Officer, First Coast Guard District Bridge Branch, 212-668-7165, joe.m.arca@uscg.mil. If you have questions on viewing the docket, call Cheryl Collins, Program Manager, Docket Operations, telephone 202-366-9826.

SUPPLEMENTARY INFORMATION:

A. Basis and Purpose

On May 1, 2014, we published a notice of proposed rulemaking (NPRM) entitled “Drawbridge Operation Regulation Oceanport Creek, Oceanport, New Jersey” in the Federal Register (79 FR 24654).

The proposed rulemaking concerned the New Jersey Transit Rail Operations (NJTRO) Bridge across Oceanport Creek at mile 8.4, at Oceanport, New Jersey.

The owner of the bridge, NJTRO, submitted a request to the Coast Guard to change the drawbridge operating regulations to allow the bridge to open year-round if at least a four-hour advance notice was given. This request to change the regulations was based on the past three years of bridge opening data which indicated the bridge only received eight requests to open during that time period.

The Coast Guard received three comment letters in response to our notice of proposed rulemaking. The comment letters requested that the Coast Guard deny the bridge owner's request to change the Drawbridge Operation Regulations for the NJTRO Bridge because it would have a detrimental effect on upstream businesses.

The Fort Monmouth Marina and Restaurant located upstream from the NJTRO Bridge recently re-opened as The Marina at Oceanport. The marina was closed for the past three years as a result of damage sustained from Hurricane Sandy.

The bridge opening data used to support the bridge owner's proposal to allow the NJTRO Bridge to require a four-hour advance notice year-round based on the reduced number of bridge opening requests received during the past three years was collected during the time period when the marina located upstream was closed following Hurricane Sandy.

B. Withdrawal

We are withdrawing this proposed rule as a result of the comments and information received. It is anticipated that the number and frequency of bridge opening requests will significantly increase now that the marina has re-opened. As a result, we do not believe that a four-hour advance notice requirement for bridge openings is justifiable and that it would not meet the reasonable needs of navigation.

Authority: This action is taken under the authority of 33 U.S.C. 499; 33 CFR 1.05-1; Department of Homeland Security Delegation No. 0170.1.

Dated: September 19, 2014.
V.B. Gifford, Jr.,
Captain, U.S. Coast Guard, Acting Commander, First Coast Guard District.

[FR Doc. 2014-24170 Filed 10-8-14; 8:45 am]

BILLING CODE 9110-04-P